DEPARTMENT OF THE TREASURY

Submission for OMB Review; Comment Request

July 2, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 13, 2003 to be assured of consideration.

Internal Revenue Service (IRS)

OMB Number: 1545-0675.

Form Number: IRS Form 1040EZ.

Type of Review: Revision.

Title: Income Tax Return for Single and Joint Filers With No Dependents.

Description: Form 1040EZ is used by certain individuals to report their income subject to income tax and to figure their correct tax liability. The data is also used to verify that the items reported on the form are correct and are also for general statistical use.

Respondents: Individuals or households.

Estimated Number of Respondents/Recordkeepers: 17,177,522.

Estimated Burden Hours Per Respondent/Recordkeeper:

Recordkeeping | 4 min.
Learning about the law or the form | 1 hr., 40 min.
Preparing the form | 1 hr., 39 min.
Copying, assembling, and sending the form to the IRS | 20 min.

Frequency of Response: Annually.

Estimated Total Reporting/Recordkeeping Burden: 50,621,176 hours.

OMB Number: 1545-1816.

Regulation Project Number: REG-103320-00 Final.

Type of Review: Extension.

Title: Disclosure of Returns and Return Information to Designee of Taxpayer.

Description: Regulation section 301.6103(c)-1 generally authorizes the IRS and its agents to disclose returns and return information to such persons as the taxpayer may designate in a written request for or consent to disclosure, or to any other person at the taxpayer's written or non-written request to the extent necessary to comply with a request for information or assistance made by the taxpayer to such other person. The regulation requires a taxpayer who wishes to authorize disclosure of his or her return information to provide the IRS or its agents with certain information, such as information identifying the taxpayer, the returns or return information to be disclosed, and the person to whom the disclosure is to be made.

Respondents: Individuals or households, Business or other for-profit, Not-for-profit institutions, Farms, Federal Government, State, Local or Tribal Government.

Estimated Number of Respondents/Recordkeepers: 4,000.

Estimated Burden Hours Per Respondent/Recordkeeper: 12 minutes.

Frequency of Response: Annually.

Estimated Total Reporting/Recordkeeping Burden: 800 hours.

OMB Number: 1545-1835.

Form Number: Questionnaires A, B, C, D, E, G, H, I, J, K, M, Q, R, S, T, UP, UV, V, W, X, and Y.

Type of Review: Extension.

Title: Form 637 Questionnaires.

Description: Form 637 Questionnaires will be used to collect information about persons who are registered with the Internal Revenue Service (IRS) in accordance with Internal Revenue Code (IRC) § 4104 or 4222. The information will be used to make an informed decision on whether the applicant/registrant qualifies for registration.

Respondents: Business or other for-profit, State, Local or Tribal Government.

Estimated Number of Respondents: 2,840.

Estimated Burden Hours Per Respondent:

Questionnaire A | 45 min.
Questionnaire B | 45 min.
Questionnaire C | 55 min.
Questionnaire D | 40 min.
Questionnaire E | 30 min.
Questionnaire F | 50 min.
Questionnaire H | 1 hr., 40 min.
Questionnaire I | 45 min.
Questionnaire J | 40 min.
Questionnaire K | 45 min.
Questionnaire M | 1 hr., 10 min.
Questionnaire Q | 1 hr., 20 min.
Questionnaire R | 1 hr., 10 min.
Questionnaire S |
For Refiners | 1 hr., 55 min.
For Importers/Enterers | 1 hr., 45 min.
For Terminal Operator | 2 hr., 0 min.
For Industrial Users | 1 hr., 45 min.
For Throughputters/Position Holders | 1 hr., 50 min.
For Exporters | 1 hr., 50 min.
Questionnaire T | 1 hr., 45 min.
Questionnaire UP | 55 min.
Questionnaire UV | 1 hr., 15 min.
Questionnaire V | 1 hr., 5 min.
Questionnaire W | 55 min.
Questionnaire X | 55 min.
Questionnaire Y | 1 hr., 20 min.

Frequency of Response: Annually.

Estimated Total Reporting/Recordkeeping Burden: 3,479 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 03-17712 Filed 7-11-03; 8:45 am]

BILLING CODE 4830-01-P